SMALL BUSINESS ADMINISTRATION

[Disaster Declaration # 12172]

Florida Disaster # FL-00056 Declaration of Economic Injury

AGENCY: U.S. Small Business Administration.

ACTION: Notice.

SUMMARY: This is a notice of an Economic Injury Disaster Loan (EIDL) declaration for the State of Florida, dated 05/13/2010.

Incident: Deepwater BP Oil Spill.

Incident Period: 04/20/2010 and continuing.

DATES: Effective Date: 05/13/2010.

EIDL Loan Application Deadline Date: 02/14/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Bay, Citrus, Dixie, Escambia, Franklin, Gulf, Hernando, Hillsborough, Jefferson, Levy, Manatee, Okaloosa, Pasco, Pinellas, Santa Rosa, Sarasota, Taylor, Walton.

Contiguous Counties:

Florida: Alachua, Calhoun, Charlotte, Desoto, Gilchrist, Hardee, Holmes, Jackson, Lafayette, Leon, Liberty, Madison, Marion, Polk, Sumter, Wakulla, Washington.

Alabama: Baldwin, Covington, Escambia, Geneva.

Georgia: Brooks, Thomas.

The Interest Rates are:

| Percent
Businesses and Small Agricultural Cooperatives without Credit Available Elsewhere: | 4.000
Non-Profit Organizations without Credit Available Elsewhere: | 3.000

The number assigned to this disaster for economic injury is 121720.

The States which received an EIDL Declaration # are Florida, Alabama, Georgia.

(Catalog of Federal Domestic Assistance Number 59002)

Dated: May 13, 2010.
Karen G. Mills,
Administrator.

[FR Doc. 2010-12072 Filed 5-19-10; 8:45 am]

BILLING CODE 8025-01-P